DEPARTMENT OF COMMERCE

National Oceanic and Atmospheric Administration

National Estuarine Research Reserve System

AGENCY: Office for Coastal Management, National Ocean Service, National Oceanic and Atmospheric Administration, U.S. Department of Commerce.

ACTION: Notice of public comment period for the Jacques Cousteau National Estuarine Research Reserve Management Plan revision.

FOR FURTHER INFORMATION CONTACT: Nina Garfield at (240) 533-0817 or Kim Texeira at (240) 533-0781 of NOAA's Office for Coastal Management, 1305 East-West Highway, N/ORM5, 10th floor, Silver Spring, MD 20910.

SUPPLEMENTARY INFORMATON: Notice is hereby given that the Office for Coastal Management, National Ocean Service, National Oceanic and Atmospheric Administration, U.S. Department of Commerce is announcing a thirty-day public comment period for the Jacques Cousteau National Estuarine Research Reserve Management Plan revision. Pursuant to 15 CFR 921.33(c), the revised plan will bring the reserve into compliance. The Jacques Cousteau Reserve revised plan will replace the plan approved in 2009.

The revised management plan outlines the administrative structure; the research/monitoring, stewardship, education, and training programs and priorities of the reserve; plans for a proposed future boundary expansion through inclusion of past and future land acquisition; and facility development priorities to support reserve operations.

The Jacques Cousteau Reserve takes an integrated approach to management, linking research and education, coastal training, and stewardship functions. The Rutgers University has outlined how it will administer the reserve and its core programs by providing detailed actions that will enable it to accomplish specific goals and objectives. Since the last management plan, the reserve has: Provided technical expertise to coastal communities to reduce risks to natural hazards; expanded monitoring programs; installed a sentinel site for monitoring marsh ecosystem response to sea level rise; upgraded exhibits; conducted training workshops; implemented K-12 education programs; purchased a marsh; installed a trail; and promoted reclamation of ghost crab pots.

The total number of acres within the boundary is 116,116 acres, which is a modification of the original 114,665 acres identified in the previous management plan. The revised acreage is a result of updated mapping techniques rather than a boundary expansion resulting from inclusion of new habitats. The revised management plan will serve as the guiding document for the Jacques Cousteau Reserve for the next five years.

NOAA's Office Coastal Management will be conducting an environmental analysis in accordance with the National Environmental Policy Act on the proposed approval of the Reserve's revised management plan. The public is invited to provide comment or information about any potential environmental impacts of the proposed action, and these comments will be used to inform the decision making process.

View the Jacques Cousteau Reserve Management Plan revision at (https://jcnerr.org/JCNERR_MNGMTPLAN_2018to2023.pdf) and provide comments to the Reserve's Assistant Manager, Lisa Auermuller (auermull@marine.rutgers.edu).

Keelin Kuipers,
Acting Deputy Director, Office for Coastal Management National Ocean Service, National Oceanic and Atmospheric Administration.

[FR Doc. 2018-00182 Filed 1-8-18; 8:45 am]

BILLING CODE 3510-08-P